DEPARTMENT OF TRANSPORTATION

Federal Highway Administration

National Highway Traffic Safety Administration

[FHWA Docket No. FHWA-2014-0032]

Retrospective Regulatory Review—State Safety Plan Development and Reporting

AGENCY: Federal Highway Administration (FHWA), National Highway Traffic Safety Administration (NHTSA), Department of Transportation (DOT).

ACTION: Notice; extension of comment period.

SUMMARY: The FHWA and NHTSA are extending the comment period for a notice and request for comment which was published on November 28, 2014, at 79 FR 70914. The original comment period is set to close on December 29, 2014. The extension is based on concern expressed by the American Association of State Highway and Transportation Officials (AASHTO) that the December 29 closing date does not provide sufficient time to review and provide comprehensive comments on the notice. The FHWA and NHTSA recognize that others interested in commenting may have similar concerns and agrees that the comment period should be extended. Therefore, the closing date for comments is changed to February 15, 2015, which will provide stakeholders interested in commenting additional time to discuss, evaluate, and submit responses to the docket.

DATES: Comments must be received on or before February 15, 2015.

ADDRESSES: Mail or hand deliver comments to the U.S. Department of Transportation, Dockets Management Facility, 1200 New Jersey Avenue SE., Washington, DC 20590, or submit electronically at http://www.regulations.gov. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: For questions about the program discussed herein, contact Melonie Barrington, FHWA Office of Safety, (202) 366-8029, or via email at Melonie.Barrington@dot.gov; or Barbara Sauers, NHTSA Office of Regional Operations and Program Delivery, (202) 366-0144, or via email at Barbara.Sauers@dot.gov. For legal questions, please contact William Winne, Attorney-Advisor, FHWA Office of the Chief Counsel, (202) 366-1397, or via email at William.winne@dot.gov; or Jin H. Kim, Attorney-Advisor, NHTSA Office of the Chief Counsel, (202) 366-1834, or via email at Jin.Kim@dot.gov. Business hours for the DOT are from 8:00 a.m. to 4:30 p.m., e.t., Monday through Friday, except Federal holidays.

SUPPLEMENTARY INFORMATION:

Electronic Access and Filing

You may submit or access all comments received by DOT online through: http://www.regulations.gov. Electronic submission and retrieval help and guidelines are available on the Web site. It is available 24 hours each day, 365 days each year. Please follow the instructions. An electronic copy of this document may also be downloaded from the Federal Register's home page at: http://www.federalregister.gov.

Background

On November 28, 2014, FHWA and NHTSA published in the Federal Register a notice and request for comment on actions the agencies could take without statutory changes to better streamline and harmonize State highway safety plan development and reporting requirements. The notice seeks comments from all interested parties to help evaluate potential future courses of action.

The original comment period for the notice closes on December 29, 2014. The AASHTO has expressed concern that this closing date does not provide sufficient time to review and provide comprehensive comments and has requested the comment period be extended to February 15, 2015. The agencies recognize that others interested in commenting may have similar concerns and agree that the comment period should be extended. To allow time for this organization and others to submit comprehensive comments, the closing date is changed from December 29, 2014, to February 15, 2015.

Gregory G. Nadeau,
Acting Administrator, Federal Highway Administration.
David J. Friedman,
Deputy Administrator, National Highway Traffic Safety Administration.

[FR Doc. 2014-30570 Filed 12-29-14; 8:45 am]

BILLING CODE 4910-22-P